SMALL BUSINESS ADMINISTRATION

[Declaration of Disaster #3413]

State of Missouri; Disaster Loan Area

As a result of the President's major disaster declaration for Public Assistance on May 6, 2002, and Amendment 1 adding Individual Assistance on May 8, 2002, I find that Bollinger, Butler, Cape Girardeau, Carter, Douglas, Dunklin, Howell, Iron, Madison, Oregon, Ozark, Perry, Reynolds, Ripley, Shannon, St. Francois, Stoddard, Texas and Wayne Counties in the State of Missouri constitute a disaster area due to damages caused by severe storms and tornadoes occurring on April 24—28, 2002. Applications for loans for physical damage as a result of this disaster may be filed until the close of business on July 7, 2002 and for economic injury until the close of business on February 10, 2003 at the address listed below or other locally announced locations: U.S. Small Business Administration, Disaster Area 3 Office, 4400 Amon Carter Blvd., Suite 102, Fort Worth, TX 76155.

In addition, applications for economic injury loans from small businesses located in the following contiguous counties may be filed until the specified date at the above location: Christian, Crawford, Dent, Jefferson, Laclede, New Madrid, Pemiscot, Phelps, Pulaski, Scott, Ste. Genevieve, Taney, Washington, Webster and Wright in the State of Missouri; Baxter, Clay, Craighead, Fulton, Greene, Marion, Mississippi, Randolph and Sharp Counties in the State of Arkansas; and Alexander, Jackson, Randolph and Union Counties in the State of Illinois.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 341311. For economic injury the number is 9P5600 for Missouri; 9P5700 for Arkansas; and 9P6300 for Illinois.

(Catalog of Federal Domestic Assistance Program Nos. 59002 and 59008)

Dated: May 9, 2002.
S. George Camp,
Acting Associate Administrator for Disaster Assistance.

[FR Doc. 02-12261 Filed 5-15-02; 8:45 am]

BILLING CODE 8025-01-P